ENVIRONMENTAL PROTECTION AGENCY

[FRL-7407-4]

Agency Information Collection Activities: Submission for OMB Review; Comment Request; NSPS for Metal Coil Surface Coating

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Title: NSPS for Metal Coil Surface Coating (subpart TT), OMB Control Number 2060-0107, expiration date January 31, 2003. The ICR describes the nature of the information collection and its expected burden and cost; where appropriate, it includes the actual data collection instrument.

DATES: Comments must be submitted on or before December 13, 2002.

ADDRESSES: Send comments, referencing EPA IRC Number 0660.08 and OMB Control Number 2060-0107, to the following addresses: Susan Auby, United State Environmental Protection Agency, Collection Strategies Division (Mail Code 2822T), 1200 Pennsylvania Avenue, NW, Washington, DC 20460-0001; and to the Office of Information and Regulatory Affairs, Office of Management and Budget (OMB), Attention: Desk Officer for EPA, 725 17th Street, NW, Washington, DC 20503.

FOR FURTHER INFORMATION CONTACT: For a copy of the ICR, contact Susan Auby at EPA by phone at: (202) 566-1672, by e-Mail to: auby.susan@epa.gov, or download from the Internet at: http://www.epa.gov/icr, and refer to EPA ICR Number 0660.08. For technical questions about the ICR, contact Steven Hoover at (202) 564-7007, or by e-Mail to: hoover.steven@epa.gov.

SUPPLEMENTARY INFORMATION: Title: NSPS for Metal Coil Surface Coating (subpart TT), OMB Control Number 2060-0107, EPA ICR Number 0660.08, expiration date January 31, 2003. This is a request for extension of a currently approved collection.

Abstract: The New Source Performance Standard (NSPS) for Surface Coating of Metal Coils were proposed on January 5, 1981, and promulgated on November 1, 1982. These standards apply to each metal coil surface coating operation in which organic coatings are applied that commenced construction, modification or reconstruction after January 5, 1981. Approximately 161 sources are currently subject to the standard, and it is estimated that 4 sources per year will become subject to the standard. Volatile Organic Compounds (VOCs) are the pollutants regulated under this subpart, and this information is being collected to assure compliance with 40 CFR part 60, subpart TT.

Owners or operators of the affected facilities described must make initial reports when a source becomes subject, conduct and report on a performance test, demonstrate and report on continuous monitor performance, and maintain records of the occurrence and duration of any startup, shutdown, or malfunction in the operation of an affected facility. Semiannual reports of excess emissions are required. These notifications, reports, and records are essential in determining compliance; and are required, in general, of all sources subject to NSPS.

Any owner or operator subject to the provisions of this part shall maintain a file of these measurements, and retain the file for at least 2 years following the date of such measurements, maintenance reports, and records. All reports are sent to the delegated State or Local authority. In the event that their is no such delegated authority, the reports are sent directly to the EPA Regional Office.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on June 20, 2002. No comments were received.

Burden Statement: The annual public reporting and recordkeeping burden for this collection of information is estimated to average 36 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to respond to a collection of information; search data sources; complete and review the collection of information; and transmit or otherwise disclose the information.

Respondents/Affected Entities: Owners/Operators of Metal Coil Surface Coating Plants.

Estimated Number of Respondents: 165.

Frequency of Response: semiannual for all, every other year for excess emission report.

Estimated Total Annual Hour Burden: 14,531.

Estimated Total Annualized Capital, O&M Cost Burden: $318,000.

Send comments on the Agency's need for this information, the accuracy of the provided burden estimates, and any suggested methods for minimizing respondent burden, including through the use of automated collection techniques to the addresses listed above. Please refer to EPA ICR Number 0660.08 and OMB Control Number 2060-0107 in any correspondence.

Dated: November 4, 2002.
Oscar Morales,
Director, Collection Strategies Division.

[FR Doc. 02-28849 Filed 11-2-02; 8:45 am]

BILLING CODE 6560-50-P